FEDERAL COMMUNICATIONS COMMISSION

47 CFR Part 8

[CG Docket No. 22-2; DA 23-617; FR ID 157982]

Empowering Broadband Consumers Through Transparency

AGENCY: Federal Communications Commission.

ACTION: Final rule.

SUMMARY: In this document, the Federal Communications Commission (Commission) amends its rules to update the template for the recently adopted broadband consumer label. The revised label template reflects a new Affordable Connectivity Program (ACP) application landing page. This action does not modify or otherwise change any entity's underlying responsibilities under the Broadband Label Order. It simply ensures that broadband internet access service providers know as early as possible what content must be displayed in the labels.

DATES:

Effective date: September 6, 2023.

Compliance date: FCC will announce compliance dates for the amendments to 47 CFR 8.1(a)(1) by publication of a document in the Federal Register.

FOR FURTHER INFORMATION CONTACT: Erica H. McMahon, Erica.McMahon@fcc.gov or (202) 418-0346, of the Consumer and Governmental Affairs Bureau, Consumer Policy Division. For information regarding the PRA information collection requirements contained in the PRA, contact Cathy Williams, Office of Managing Director, at (202) 418-2918, or Cathy.Williams@fcc.gov.

SUPPLEMENTARY INFORMATION: This is a summary of the Commission's Order, DA 23-617, CG Docket No. 22-2, adopted and released on July 18, 2023, which requires providers to include the new ACP landing page, Getinternet.gov, in their broadband labels. The full text of this document is available online at https://docs.fcc.gov/public/attachments/DA-23-617A1.pdf. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530 (voice).

Final Paperwork Reduction Act of 1995 Analysis

This document does not contain new or substantively modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

This document may contain non-substantive modifications to an information collection. Any such modifications will be submitted to OMB either: (1) as part of the submission of PRA information collection requirements adopted by the Commission in the Broadband Label Order for OMB review; or (2) separately pursuant to OMB's non-substantive modification process.

Congressional Review Act

The Commission sent a copy of document DA 23-617 to Congress and the Government Accountability Office pursuant to the Congressional Review Act, 5 U.S.C. 801(a)(1)(A).

Synopsis

In this Order, the Commission modifies its rules to reflect an updated broadband label containing the new ACP landing page of “Getinternet.gov.” We also make clear that, should a provider be required to display a Spanish version of the label, it must include the Spanish-language landing page for the ACP: Accedeainternet.gov. In the Broadband Label Order, the Commission stated that “[t]he label required under § 8.1(a)(1) must be provided in English and in any other languages in which the broadband internet access service provider markets its services in the United States.” See 47 CFR 8.1(a)(4). This change simply ensures the label contains accurate information; it does not involve any policy change.

We find good cause to make this rule change without notice and comment under section 553(b)(B) of the Administrative Procedure Act (APA). See 5 U.S.C. 553(b)(3)(B). Section 553(b)(B) of the APA provides exceptions to the notice and comment rulemaking procedures when, among other things, the agency finds good cause that the notice and comment requirements are “impracticable, unnecessary, or contrary to the public interest” with respect to the rule at issue. See 5 U.S.C. 553(b)(B).

We conclude that, in this case, the substitution of one Commission-supplied URL for a different Commission-supplied URL in broadband providers' labels is insignificant in its nature and impact on regulated entities and beneficial to the broader public by ensuring the use of a URL that serves the intended purpose of the label. The minimal practical significance of the change is particularly true here, given that compliance with the label is not yet required and providers will have ample implementation time (either six months or one year, depending on the size of the provider's subscriber base) following Federal Register publication of OMB approval and modification of the codified rule. Similarly, it is in the best interest of providers that they know as early as possible what content must be displayed in the labels as they begin to create the labels. Accordingly, we find, for good cause, that it is “unnecessary,” within the meaning of section 553(b)(B), to provide notice and an opportunity for public comment before implementing this rule revision.

Final Regulatory Flexibility Analysis

Because this rule change was adopted without notice and comment, the Regulatory Flexibility Act does not apply.

List of Subjects in 47 CFR Part 8

Cable television, Common carriers, Communications common carriers, Reporting and recordkeeping requirements, Satellites, Telecommunications, Telephone, Radio.

Federal Communications Commission.
Robert Garza,
Legal Advisor, Consumer and Governmental Affairs Bureau.

Final Rules

For the reasons discussed in the preamble, the Federal Communications Commission amends 47 CFR part 8 as follows:

PART 8—INTERNET FREEDOM

1. The authority citation for part 8 continues to read as follows:

Authority: 47 U.S.C. 154, 201(b), 257, 303(r), and 1753.

2. Amend § 8.1(a) by revising paragraph (a)(1) to read as follows:

§ 8.1 Transparency.

(a) * * *

(1) Any person providing broadband internet access service shall create and display an accurate broadband consumer label for each stand-alone broadband internet access service it currently offers for purchase. The label must be prominently displayed, publicly available, and easily accessible to consumers, including consumers with disabilities, at the point of sale with the content and in the format prescribed by the Commission in “[Fixed or Mobile] Broadband Consumer Disclosure,” in figure 1 to this paragraph.

Figure 1 to Paragraph (a)(1)—[Fixed or Mobile] Broadband Consumer Disclosure Label

BILLING CODE 6712-01-P

* * * * *

[FR Doc. 2023-16449 Filed 8-4-23; 8:45 am]

BILLING CODE 6712-01-C